DEPARTMENT OF LABOR

Employment and Training Administration

[TA-W-59,159]

Eagle Picher, Hillsdale, MI; Notice of Termination of Investigation

Pursuant to section 221 of the Trade Act of 1974, as amended, an investigation was initiated on April 5, 2006 in response to a worker petition filed by a state agency representative on behalf of workers at Eagle Picher, Hillsdale, Michigan.

The petitioner has requested that the petition be withdrawn. Consequently, the investigation has been terminated.

Signed at Washington, DC this 14th day of April 2006.
Richard Church,
Certifying Officer, Division of Trade Adjustment Assistance.

[FR Doc. E6-6855 Filed 5-4-06; 8:45 am]

BILLING CODE 4510-30-P